DEPARTMENT OF ENERGY

Federal Energy Regulatory Commission

[Docket No. RP02-135-000]

Iroquois Gas Transmission System, L.P.; Notice of Fuel Calculations

January 10, 2002.

Take notice that on December 31, 2001, Iroquois Gas Transmission System, L.P. (Iroquois) tendered for filing its schedules which reflect calculations supporting the Measurement Variance/Fuel Use Factors utilized by Iroquois during the period July 1, 2001 through December 31, 2001.

Iroquois states that data from the data base during this period had to be verified to ensure accurate and complete information. Iroquois states that the schedules attached to the filing include calculations supporting each of the following three components of Iroquois' composite Measurement Variance/Fuel Use Factor:

(1) Lost and unaccounted—for gas (Measurement Variance Factor);

(2) Fuel use associated with the transportation of gas by others on behalf of Iroquois (Account 858 Fuel Use Factor); and

(3) Fuel use associated with the transportation of gas on Iroquois' pipeline system (Account 854 Fuel Use Factor).

Any person desiring to be heard or to protest said filing should file a motion to intervene or a protest with the Federal Energy Regulatory Commission, 888 First Street, N.E., Washington, DC 20426, in accordance with sections 385.214 or 385.211 of the Commission's Rules and Regulations. All such motions or protests must be filed on or before January 17, 2002. Protests will be considered by the Commission in determining the appropriate action to be taken, but will not serve to make protestants parties to the proceedings. Any person wishing to become a party must file a motion to intervene. Copies of this filing are on file with the Commission and are available for public inspection in the Public Reference Room. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-1079 Filed 1-15-02; 8:45 am]

BILLING CODE 6717-01-P